DEPARTMENT OF THE INTERIOR

National Park Service

[NPS-WASO-NRNHL-DTS#-31075; PPWOCRADI0, PCU00RP14.R50000]

National Register of Historic Places; Notification of Pending Nominations and Related Actions

AGENCY: National Park Service, Interior.

ACTION: Notice.

SUMMARY: The National Park Service is soliciting electronic comments on the significance of properties nominated before October 17, 2020, for listing or related actions in the National Register of Historic Places.

DATES: Comments should be submitted electronically by November 13, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before October 17, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Duval County

Palm Spring Cemetery, (Historic African American Cemeteries in Duval County, Florida (1765-1969) MPS), 11396 Fort Caroline Rd., Jacksonville, MP100005819

Monroe County

Matecumbe Methodist Church, 81831 Overseas Hwy., Islamorada, SG100005820

Volusia County

Tomoka Mound and Midden Complex, Address Restricted, Ormond Beach vicinity, SG100005821,

Pacetti Hotel, 4928 South Peninsula Dr., Ponce Inlet, SG100005822

MICHIGAN

Kent County

American Box Board Company Headquarters and Factory, 470 Market Ave. SW, Grand Rapids, SG100005823

Ottawa County

Lakewood Farm, 264 North Lake Shore Dr., Park Township, SG100005825

NEW YORK

Herkimer County

Hildreth Homestead, 4083 NY 28, Herkimer, SG100005830

Suffolk County

Bell, Mary E., House, 66 Railroad Ave., Center Moriches, SG100005831

OHIO

Noble County

Caldwell Downtown Historic District, Roughly bounded by Spruce, West, Plum, Bridge, and East Sts., Caldwell, SG100005824

VIRGINIA

Arlington County

Glebe Apartments, (Garden Apartments, Apartment Houses and Apartment Complexes in Arlington County, Virginia MPS), 210-212 North Glebe Rd., Arlington, MP100005835

Charlottesville Independent City

Jackson P. Burley High School, 901 Rose Hill Dr., Charlottesville vicinity, SG100005836

Essex County

Occupacia-Rappahannock Rural Historic District, Roughly bounded by the Essex County line, Supply, Clarkes Store, and Pilkington Rds., the Rappahannock R., Blandfield (028-5084-0510), and Tidewater Trail (US 17) through center, Tappahannock vicinity, SG100005837

WEST VIRGINIA

Jackson County

Charmco Building, 606 Morris St., Charleston, SG100005828

Lewis County

Gum Farmstead Historic District, 3414 Freeman's Creek Rd., Camden vicinity, SG100005827

Wayne County

First Congregational Church of Ceredo, 600 C St., Ceredo, SG100005826

Additional documentation has been received for the following resources:

KANSAS

Harvey County

McKinley Residential Historic District (Additional Documentation), Roughly East 5th St., SE 3rd St., Allison St., Walnut St., Newton, AD08000670

Authority: Section 60.13 of 36 CFR part 60.

Dated: October 20, 2020.
Sherry A. Frear,
Chief, National Register of Historic Places/National Historic Landmarks Program.

[FR Doc. 2020-24007 Filed 10-28-20; 8:45 am]

BILLING CODE 4312-52-P